DEPARTMENT OF TRANSPORTATION

Federal Aviation Administration

RTCA, Inc.; Government/Industry Free Flight Steering Committee

Pursuant to section 10(a)(2) of the Federal Advisory Committee Act (Pub. L. 92-463, 5 U.S.C., Appendix 2), notice is hereby given for an RTCA Government/Industry Free Flight Steering Committee meeting to be held August 16, 2000, starting at 1:00 p.m. The meeting will be held at the Federal Aviation Administration, 800 Independence Avenue, SW., Washington, DC 20591, in the Bessie Coleman Conference Center, Room 2AB (second floor).

The agenda will include: (1) Welcome and Opening Remarks; (2) Review Summary of the Previous Meeting; (3) Report and Recommendations from the Free Flight Select Committee: (a) Consolidated Government/Industry Operational Concept; (b) Surveillance Operational Concept; (c) Surveillance Roadmap; (d) Safe Flight 21; (4) FAA Report: (e) Free Flight Phase 2; (5) Presentation: (f) Deutsche Flugsicherung (DFS) GmbH, the German Air Navigation Service; (6) Satellite Navigation Users Group; (7) Other Business; (6) Date and Location of Next Meeting; (7) Closing.

Attendance is open to the interested public but limited to space availability. With the approval of the co-chairmen, members of the public may present oral statements at the meeting. Persons wishing to present statements or obtain information should contact the RTCA, Inc., at (202) 833-9339 (phone), (202) 833-9434 (facsimile).

Issued in Washington, DC on July 25, 2000.
Janice L. Peters,
Designated Official.

[FR Doc. 00-19533 Filed 8-1-00; 8:45 am]

BILLING CODE 4910-13-M